DEPARTMENT OF THE INTERIOR

Bureau of Land Management

[CA-670-1220-00 PD; G0-00]

Notice of Supplemental Rule for Public Lands in California

AGENCY: Bureau of Land Management, El Centro Field Office, California Desert District, Interior.

ACTION: Supplemental rule; camping rule for selected Federal lands, Imperial County, CA.

SUMMARY: The Bureau of Land Management's (BLM) El Centro Field Office is issuing a supplementary camping rule. This rule is being issued to protect the flat-tailed horned lizard and will apply to public lands within the Yuha Basin Area of Critical Environment Concern (ACEC). Camping will only be allowed in the non-Wilderness portions of the ACEC within the boundaries of a designated camping area.

FOR FURTHER INFORMATION CONTACT: Lynnette Elser, Resources Branch Chief, 1661 So. 4th St., El Centro, CA 92243, (760) 337-4420.

I. Discussion of the Supplementary Rule

This rule is needed to support the Decision Record for the Western Colorado Routes of Travel Designation (WECO ROT) Plan dated October 2002 and signed January 31, 2003. Stakeholders participated in the development of this plan and have had opportunity to provide comments on this supplementary rule through the development of the WECO ROT Plan. This rule is final upon publication and applies to public lands within: SBM, T16S, R10E, S25-S28, S33-S36; T16½S, R10E, S1-S4; T17S, R10E, S1-S3, S10-S15, S23-S25; T16S, R11E, S19-S35; T16½, R11E, S1-S6; T17S, R11E, S1-S15, S17-S30; T16S, R12E, S19, S29-S34; T16½S, R12E, S3-S6; T17S, R12E, S1-S15, S17-S30; T17S, R13E, S18-S19.

II. Procedural Matters

Executive Order 12866, Regulatory Planning and Review

This supplementary rule is not a significant regulatory action and is not subject to review by the Office of Management and Budget under Executive Order 12866. This supplementary rule will not have an effect of $100 million or more on the economy. It will not adversely affect in a material way the economy, productivity, competition, jobs, the environment, public health or safety, or State, local, or tribal governments or communities. This supplementary rule will not create a serious inconsistency or otherwise interfere with an action taken or planned by another agency. This supplementary rule does not alter the budgetary effects of entitlements, grants, user fees, or loan programs or the right or obligations of their recipients; nor does it raise novel legal or policy issues. The supplementary rule simply bans camping in certain areas in order to protect natural and cultural resources.

Clarity of the Regulations

Executive Order 12866 requires each agency to write regulations that are simple and easy to understand. We invite your comments on how to make this supplementary rule easier to understand, including answers to questions such as the following:

1. Are the requirements in the supplementary rule clearly stated?

2. Does the supplementary rule contain technical language or jargon that interferes with their clarity?

3. Does the format of the supplementary rule (grouping and order of sections, use of headings, paragraphing, etc.) aid or reduce clarity?

4. Is the description of the supplementary rule in the SUPPLEMENTARY INFORMATION section of this preamble helpful in understanding the supplementary rule? How could this description be more helpful in making the supplementary rule easier to understand?

Please send any comments you have on the clarity of the rule to the address specified in the ADDRESSES section.

National Environmental Policy Act

BLM prepared an “Environmental Assessment and Draft Plan Amendment for Western Colorado Desert Routes of Travel Designation” (EA) dated October 2002 that anticipates this supplementary rules. This was followed by a December 13, 2002, “Proposed Amendment to the California Desert Conservation Area Plan for Western Colorado Desert Routes of Travel Designation and Errata Sheet for the Environmental Assessment.” In these documents, BLM found that the supplementary rule would not constitute a major Federal action significantly affecting the quality of the human environment under section 102(2)(C) of the Environmental Protection Act of 1969 (NEPA), 42 U.S.C. 4332(2)(C). The Finding of No Significant Impact was signed January 31, 2003. A detailed statement under NEPA is not required. BLM has placed the EA and the Finding of No Significant Impact (FONSI) on file in the BLM Administrative Record at the address specified in the ADDRESSES section.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. This supplementary rule simply bans camping in certain areas in order to protect natural and cultural resources, and does not affect commercial or business activities of any kind. Therefore, BLM has determined under the RFA that this supplementary rule would not have a significant economic impact on a substantial number of small entities.

Small Business Regulatory Enforcement Fairness Act (SBREFA).

This supplementary rule is not a “major rule” as defined at 5 U.S.C. 804(2). The supplementary rule simply bans camping in certain areas in order to protect natural and cultural resources, and does not affect commercial or business activities of any kind.

Unfunded Mandates Reform Act

This supplementary rule does not impose an unfunded mandate on State, local, or tribal governments or the private sector of more than $100 million per year; nor does it have a significant or unique effect on State, local, or tribal governments or the private sector. The supplementary rule simply bans camping in certain areas in order to protect natural and cultural resources, and does not affect tribal, commercial, or business activities of any kind. Therefore, BLM is not required to prepare a statement containing the information required by the Unfunded Mandates Reform Act (2 U.S.C. 1531 et seq.)

Executive Order 12630, Governmental Actions and Interference With Constitutionally Protected Property Rights (Takings)

The supplementary rule does not represent a government action capable of interfering with Constitutionally-protected property rights. It simply bans camping in certain areas in order to protect natural and cultural resources, and does not affect anyone's property rights. Therefore, the Department of the Interior has determined that this rule will not cause a taking of private property or require further discussion of takings implications under this Executive Order.

Executive Order 13132, Federalism

The supplementary rule will not have a substantial direct effect on the States, on the relationship between the national government and the States, or on the distribution of power and responsibilities among the various levels of government. The supplementary rule does not come into conflict with any state law or regulation. Therefore, in accordance with Executive Order 13132, BLM has determined that the supplementary rule does not have sufficient Federalism implications to warrant preparation of a Federalism Assessment.

Executive Order 12988, Civil Justice Reform

Under Executive Order 12988, the Office of the Solicitor has determined that this rule will not unduly burden the judicial system and that it meets the requirements of sections 3(a) and 3(b)(2) of the Order.

Executive Order 13175, Consultation and Coordination With Indian Tribal Governments

In accordance with Executive Order 13175, we have found that the supplementary rule does not include policies that have tribal implications. None of the lands included in this rule affects Indian lands or Indian Rights. Coordination was conducted through preparation of the WECO ROT Plan with all affected tribes.

Paperwork Reduction Act

The supplementary rule does not contain information collection requirements that the Office of Management and Budget must approve under the Paperwork Reduction Act of 1995, 44 U.S.C. 3501 et seq. The information collection requirements contained in this rule are exempt from the provisions of the Paperwork Reduction Act of 1995, 44 U.S.C. 3518(c)(1). Federal criminal investigations or prosecutions may result from this rule and are exempt from the Paperwork Reduction Act.

Authors

The principal authors of this supplementary rule are Chief Ranger Robert Zimmer and Supervisory Ranger Robert Haggerty.

III. Supplementary Rule

Under 43 CFR 8365.1-6, the Bureau of Land Management will enforce the following rules on public lands in Imperial County, CA, within the Yuha Basin Area of Critical Environmental Concern (ACEC) as identified in the Western Colorado Desert Routes of Travel Designation Plan, El Centro Field Office, California Desert District. A more detailed explanation as to the need for such rules may be found in the Western Colorado Desert Routes of Travel Designation dated October 2002 and signed January 31, 2003. You must follow this rule:

1. No person may camp outside the established campgrounds within the non-Wilderness Areas of the Yuha Basin Area of Critical Environmental Concern.

2. The established campgrounds are described as follows:

a. Dunaway Campground: SBM, T16S, R11E, S24, W½ (within); located off BLM Route 357 and approximately 5.9 acres in size. Access to this campground is off Dunaway Road, south of Interstate 8.

b. Shell Beds Campground: SBM, T16S, R11E, S27, W½ (within); located off BLM Route 274 and approximately 22.8 acres in size. Access to this campground is from Dunaway Road to BLM Route 274 for approximately 2 miles; BLM Route 274 will head towards the right; stay left to go to campground.

c. Overlook Campground: SBM, T16S, R11E, S29, NE¼ (within); located directly off BLM Route 274 and approximately 5.1 acres in size. Best access to this campground is from Dunaway Road; take BLM Route 274 to campground.

d. De Anza Campground: SBM, T16½S, R10E, S2, S½ (within), T17S, R10E, S1, W½ (within); located off BLM Route 274 and approximately 26.9 acres in size. Access to this campground is from Highway 98 to BLM Route 274; follow BLM Route 274 for approximately 1 mile. Campground is along the rim and to the east of BLM Route 274.

e. Coyote Campground: SBM, T17S, R10E, S23, NE¼ (within); located off BLM Route 282 and approximately 22.3 acres in size. Access to this campground is from Highway 98 to BLM Route 282; follow BLM Route 282 for approximately 3 miles to the campground.

f. Little Sunrise Campground: SBM, T17S, R11E, S22, NW¼ (within); located off BLM Route 389 and approximately 4.5 acres in size. Access to this campground is from Highway 98 to BLM Route 389; follow BLM Route 389 for approximately 1.5 miles to campground.

IV. Penalties

Under section 303(a) of the Federal Land Policy and Management Act of 1976 (43 U.S.C. 1733(a)) and 43 CFR 8360.0-7 if you violate this supplementary rule on public lands within the boundaries established in the rule, you may be tried before a United States Magistrate and fined no more than $1,000 or imprisoned for no more than 12 months, or both. Such violations may also be subject to the enhanced fines provided for by 18 U.S.C. 3571.

Dated: December 29, 2003.
J. Anthony Danna,
Acting California State Director.

Editorial Note: This document was received in the Office of the Federal Register on April 6, 2004.

[FR Doc. 04-8162 Filed 4-9-04; 8:45 am]

BILLING CODE 4392-68-P